DEPARTMENT OF DEFENSE

Department of the Army

Notice of Availability (NOA) of the Draft environmental Impact Statement (DEIS) for the Disposal of Chemical Munitions at Blue Grass Army Depot (BGAD), Kentucky

AGENCY: Department of the Army, DoD.

ACTION: Notice of availability.

SUMMARY: This announces the availability of the DEIS that assesses the potential environmental impacts of the design, construction, operation and closure of a facility to destroy the chemical agents and munitions stored at BGAD. The DEIS examines the potential environmental impacts of the following destruction facility alternatives: (1) A baseline incineration facility used by the Army at Johnston Atoll Chemical Agent Disposal System on Johnston Island and currently in use at Desert Chemical Depot, (2) chemical neutralization followed by supercritical water oxidation (SCWO), (3) chemical neutralization followed by SCWO and gas phase chemical reduction, (4) electrochemical oxidation, and (5) no action (continued storage of chemical munitions at BGAD). Although the no action alternative is not viable under Public Law 99-145 (Department of Defense Authorization Act of 1986); it was analyzed to provide a baseline comparison to the proposed action.

DATES: The public comment period of the DEIS will end 45 days after publication of the NOA in the Federal Register by the U.S. Environmental Protection Agency.

ADDRESSES: To obtain copies of the DEIS or submit comments, contact the Program Manager for Chemical Demilitarization, Public Outreach and information Office (ATTN: Mr. Greg Mahall), Building E-4585, Aberdeen Proving Ground, Maryland 21010-4005.

FOR FURTHER INFORMATION CONTACT: Mr. Gregory Mahall at (410) 436-1093, by fax at (410) 436-5122, by e-mail at gregory.mahall@pmcd.apgea.army.mil or by mail at the above listed address.

SUPPLEMENTARY INFORMATION: In its Record of Decision (ROD) (53 FR 5816, February 26, 1988) for the Final Programmatic Environmental Impact Statement on the Chemical Stockpile Disposal Program (CSDP), the Army selected on-site disposal by incineration at all eight chemical munition storage sites located within the continental United States as the method by which it would destroy its lethal chemical stockpile. The Notice of Intent was published in the Federal Register (65 FR 75677-75678, December 4, 2000) providing notice that, pursuant to the National Environmental Policy Act and its implementing regulations, a site-specific EIS for the Blue Grass Chemical Agent Disposal Facility was being prepared. Public scoping meetings were held in Richmond, KY on January 9, 2001. All public comments received during the scoping process have been considered in preparation of this DEIS.

This site-specific EIS continues the process that began when Congress established the Chemical Demilitarization program in Public Law 99-145 (1985). This law, as amended, requires the destruction of the chemical weapons stockpile by a stockpile elimination deadline. This requirement still exists, notwithstanding the establishment of the Assembled Chemical Weapons Assessment (ACWS) Program. The Chemical Demilitarization program published a Programmatic Environmental Impact Statement (PEIS) in January 1988. The ROD states that the stockpile of chemical agents and munitions should be destroyed in a safe and environmentally acceptable manner by on-site incineration. Site-specific EISs that tier off the PEIS have been prepared for Johnston Atoll Chemical Agent Disposal System, Tooele Chemical Agent Disposal Facility, Anniston Chemical Agent Disposal Facility, Umatilla Chemical Agent Disposal Facility, and for the Pine bluff Chemical Agent Disposal Facility.

The specific purpose of the current analysis is to determine the environmental impacts of the alternatives identified in this summary that could accomplish the destruction of the stockpile at BGAD by the required destruction date. In the course of the environmental impact analysis, it will be determined whether construction of a full-scale plant operated initially as a pilot facility and utilizing any of the technologies successfully demonstrated in the ACWA Program is capable of destroying the stockpile at BGAD by the required destruction date (or as soon thereafter as could be achieved by constructing a destruction facility using the baseline incineration technology) and as safely as use of the baseline incineration technology. The ROD (based on the 1988 PEIS) does not limit or predetermine the results of this consideration, and it does not dictate the decision to be made in the ROD following completion of the EIS for this action at BGAD.

The second document announcing the programmatic analysis for follow-on pilot testing of successful ACWA Program demonstration tests pursuant to the process established by Congress in Public Laws 104-208 and 105-261 addresses a distinct but related purpose. That purpose is to determine which technologies can be pilot tested and, if so, at which site or sites. That PEIS can be distinguished from this site-specific EIS in that its emphasis will be on the feasibility of pilot testing one or more of the demonstrated and approved ACWA Program technologies considering the unique characteristics of the alternative sites to include BGAD. The PEIS will not consider the use of a full-scale facility operated initially as a pilot facility at BGAD. As discussed above, this alternative will be considered in the site-specific EIS for BGAD.

A decision on which of the alternatives will be implemented in carrying out the destruction of the chemical munitions at BGAD will be made by the Defense Acquisition Board through a process that will consider a wide range of factors. The factors include, but are not limited to, environmental considerations, laws and regulations, mission needs (at BGAD as well as from a national perspective), implications for compliance with the Chemical Weapons Convention, budget considerations, schedule and public concerns.

Dated: May 23, 2002.
Raymond J. Fatz,
Deputy Assistant Secretary of the Army, (Environment, Safety and Occupational Health), OASA (I&E).

[FR Doc. 02-13452 Filed 5-29-02; 8:45 am]

BILLING CODE 3710-08-M